DEPARTMENT OF TRANSPORTATION

Federal Aviation Administration

14 CFR Parts 121,125,135, and 145

[Docket No. FAA-2000-7952; Amendment Nos. 121-279, 125-35, 135-77, and 145-23]

RIN 2120-AF71

Service Difficulty Reports

AGENCY: Federal Aviation Administration, DOT.

ACTION: Final rule; delay of effective date.

SUMMARY: The Federal Aviation Administration (FAA) is delaying the effective date of a final rule that amends the reporting requirements for air carriers and certificated domestic and foreign repair station operators concerning failures, malfunctions, and defects of aircraft, aircraft engines, systems, and components. This action was prompted by questions being raised by the aviation industry on the implementation of the new requirements. The delay will allow the FAA to develop appropriate guidance materials and disseminate that information to the aviation industry.

EFFECTIVE DATE: The effective date (January 16, 2001) of the rule amending 14 CFR parts 121, 125, 129, and 145 published at 65 FR 56191, September 15, 2000, is delayed until July 16, 2001.

FOR FURTHER INFORMATION CONTACT: Jose Figueroa, AFS-300, Federal Aviation Administration, 800 Independence Avenue, SW., Washington, DC 20591, telephone 202-267-3797.

SUPPLEMENTARY INFORMATION:

Background

The FAA requested that comments on the information collection requirements of the Service Difficulty Reporting final rule (65 FR 56191, September 15, 2000) be submitted by November 14, 2000. The FAA has received written comments from the Air Transport Association, American Airlines, Evergreen International Airlines, and Pratt & Whitney, raising questions on some of the SDR reporting requirements and indicating the potential for duplicate reporting of certain failures, malfunctions, and defects.

Also one commentator has requested that the FAA delay the effective date of the final rule until the FAA has resolved these concerns.

The SDR rule, as published, has an effective date of January 16, 2001. The FAA has determined that it will need more time to review the commenter's concerns and to develop and disseminate guidance that will assist the industry in complying with the new rule. Therefore the FAA has delayed the effective date of the final rule until July 16, 2001. The existing rules will remain in effect until the new effective date.

Since this delay of the effective date is not a new requirement and does not impose any additional burden, I find that notice and public procedure thereon are unnecessary and that good cause exists for extending the effective date on less than 30 days notice.

Issued in Washington, DC, on December 15, 2000.
Jane F. Garvey,
Administrator.

[FR Doc. 00-32510 Filed 12-21-00; 8:45 am]

BILLING CODE 4910-13-M